CIVIL RIGHTS COMMISSION

Sunshine Act Meeting Notice

AGENCY: United States Commission on Civil Rights.

ACTION: Notice of Commission business meeting.

DATES: Friday, December 7, 2018, at 10 a.m. EST.

ADDRESSES: Place: National Place Building, 1331 Pennsylvania Ave. NW, 11th Floor, Suite 1150, Washington, DC 20245 (entrance on F Street NW).

FOR FURTHER INFORMATION CONTACT: Brian Walch; phone (202) 376-8371; TTY: (202) 376-8116; publicaffairs@usccr.gov.

SUPPLEMENTARY INFORMATION: This business meeting is open to the public. Public call-in (listen-only) information: Toll-free: 1-800-682-9934, Conference ID 7671081. Stay abreast of updates at www.usccr.gov, https://twitter.com/USCCRgov, and https://www.facebook.com/USCCRgov/. The event will also live-stream at https://www.youtube.com/user/USCCR/videos. (Streaming information is subject to change.) Persons with disabilities who need accommodation should contact Pamela Dunston at (202) 376-8105 or at access@usccr.gov at least seven (7) business days before the scheduled date of the meeting.

Meeting Agenda

I. Approval of Agenda

II. Business Meeting

A. Presentation by Rhode Island Advisory Committee Chair on the Committee's recently released report, Payday Lending in Rhode Island

B. Presentation by Connecticut Advisory Committee Chair on the Committee's recently released advisory memorandum, Solitary Confinement in Connecticut

C. Presentation by Vermont Advisory Committee Chair on the Committee's recently released advisory memorandum, Housing Discrimination in Vermont: A Handshake and a Smile

D. Discussion and vote on discovery plan, outline, and timeline for Commission project on Women in Prison

E. Discussion and vote on briefing date for Commission project on Sexual Harassment in Federal Workplaces

F. Management and Operations

• Staff Director's Report

III. Adjourn Meeting

Dated: November 28, 2018.
Brian Walch,
Director, Communications and Public Engagement.

[FR Doc. 2018-26202 Filed 11-28-18; 4:15 pm]

BILLING CODE 6335-01-P